DEPARTMENT OF COMMERCE

International Trade Administration

[C-570-991]

Chlorinated Isocyanurates From the People's Republic of China: Final Results of the Expedited First Sunset Review of the Countervailing Duty Order

AGENCY: Enforcement and Compliance, International Trade Administration, Department of Commerce.

SUMMARY: The Department of Commerce (Commerce) finds that revocation of the countervailing duty (CVD) order on chlorinated isocyanurates from the People's Republic of China (China) would be likely to lead to the continuation or recurrence of a countervailable subsidy at the levels indicated in the “Final Results of Sunset Review” section of this notice.

DATES: Applicable February 4, 2020.

FOR FURTHER INFORMATION CONTACT: Nathan James, AD/CVD Operations, Office V, Enforcement and Compliance, International Trade Administration, U.S. Department of Commerce, 1401 Constitution Avenue NW, Washington, DC 20230; telephone: (202) 482-5305.

SUPPLEMENTARY INFORMATION:

Background

On November 13, 2014, Commerce published in the Federal Register the CVD order on chlorinated isocyanurates from China.¹ On October 1, 2019, Commerce published the notice of initiation of the first sunset review of the CVD order on chlorinated isocyanurates from China, pursuant to section 751(c) of the Tariff Act of 1930, as amended (the Act).² On October 16, 2019, Commerce received a timely notice of intent to participate from Bio-Lab, Inc., Clearon Corp., and Occidental Chemical Corporation (domestic interested parties).³ Each of the companies claimed interested party status under section 771(9)(C) of the Act, as domestic producers of chlorinated isocyanurates. On October 31, 2019, Commerce received a timely and adequate substantive response from the domestic interested parties.⁴

¹ See Chlorinated Isocyanurates from the People's Republic of China: Countervailing Duty Order, 79 FR 67424 (November 13, 2014).

² See Initiation of Five-Year (Sunset) Reviews, 84 FR 52067 (October 1, 2019).

³ See Domestic Interested Parties' Letter, “Chlorinated Isocyanurates from the People's Republic of China: Notice of Intent to Participate,” dated October 16, 2019.

⁴ See Domestic Interested Parties' Letter, “Chlorinated Isocyanurates from the People's Republic of China: Substantive Response to Notice of Initiation of Five-Year (Sunset) Review of the Countervailing Duty Order,” dated October 31, 2019.

On November 22, 2019, Commerce notified the U.S. International Trade Commission that it did not receive an adequate substantive response from respondent interested parties.⁵ As a result, pursuant to 751(c)(3)(B) of the Act and 19 CFR 351.218(e)(1)(ii)(C)(2), Commerce conducted an expedited (120-day) sunset review of the CVD order on chlorinated isocyanurates from China.

⁵ See Commerce's Letter, “Sunset Reviews Initiated on October 1, 2019,” dated November 22, 2019.

Scope of the Order

The products covered by the order are chlorinated isocyanurates. For a full description of the scope, see the Issues and Decision Memorandum.⁶

⁶ See Memorandum, “Issues and Decision Memorandum for the Final Results of the Expedited First Sunset Review of the Countervailing Duty Order on Chlorinated Isocyanurates from the People's Republic of China,” dated concurrently with this notice (Issues and Decision Memorandum).

Analysis of Comments Received

A complete discussion of all issues raised in this sunset review, including the likelihood of continuation or recurrence of a countervailable subsidy and the net countervailable subsidy rates likely to prevail if the Order were to be revoked, is provided in the accompanying Issues and Decision Memorandum, which is hereby adopted by this notice. A list of the topics discussed in the Issues and Decision Memorandum is attached as an Appendix to this notice.

The Issues and Decision Memorandum is a public document and is on file electronically via Enforcement and Compliance's Antidumping and Countervailing Duty Centralized Electronic Service System (ACCESS). ACCESS is available to registered users at http://access.trade.gov, and in the Central Records Unit, Room B8024 of the main Commerce building. In addition, a complete version of the Issues and Decision Memorandum can be accessed directly at http://enforcement.trade.gov/frn/. The signed Issues and Decision Memorandum and the electronic version of the Issues and Decision Memorandum are identical in content.

Final Results of Sunset Review

Pursuant to sections 751(c)(1) and 752(b) of the Act, Commerce determines that revocation of the CVD order on chlorinated isocyanurates from China would be likely to lead to the continuation or recurrence of a countervailable subsidy at the rates listed below:

Producer/exporter | Net subsidy rate (percent)
Hebei Jiheng Chemicals Co., Ltd | 22.45
Juancheng Kangtai Chemical Co., Ltd | 2.59
All Others | 10.81

Notification Regarding Administrative Protective Order (APO)

This notice also serves as the only reminder to parties subject to an APO of their responsibility concerning the destruction of proprietary information disclosed under APO in accordance with 19 CFR 351.305. Timely written notification of the return or destruction of APO materials or conversion to judicial protective order is hereby requested. Failure to comply with the regulations and terms of an APO is a sanctionable violation.

Notification to Interested Parties

We are issuing and publishing these results in accordance with sections 751(c), 752(b), and 777(i)(1) of the Act and 19 CFR 351.218.

Dated: January 28, 2020.
Jeffrey I. Kessler,
Assistant Secretary for Enforcement and Compliance.

Appendix

I. Summary

II. Background

III. Scope of the Order

IV. History of the Order

V. Legal Framework

VI. Discussion of the Issues

VII. Final Results of Review

VIII. Recommendation

[FR Doc. 2020-02124 Filed 2-3-20; 8:45 am]

BILLING CODE 3510-DS-P